DEPARTMENT OF EDUCATION

National Assessment Governing Board; Meeting

AGENCY: National Assessment Governing Board; Education.

ACTION: Notice of Partially Closed and Closed Meetings.

SUMMARY: This notice sets forth the schedule and proposed agenda of a forthcoming meeting of the National Assessment Governing Board. This notice also describes the functions of the Board. Notice of this meeting is required under Section 10(a)(2) of the Federal Advisory Committee Act. This document is intended to notify the general public of their opportunity to attend. Individuals who will need accommodations for a disability in order to attend the meeting (i.e. interpreting services, assistive listening devices, materials in alternative format) should notify Mary Ann Wilmer at 202-357-6938 or e-mail mary_ann_wilmer@ed.gov by no later than February 23, 2000. We will attempt to meet requests after this date, but cannot guarantee availability of the requested accommodation. The meeting site is accessible to individuals with disabilities.

DATE: March 2-4, 2000.

TIME: March 2—Subject Area Committee #1, 1:30-2:30 p.m., (open), 2:30-3:00 p.m. (closed); Achievement Levels Committee, 1:30-3:00 p.m.; Joint Meeting, Subject Area Committee #1 and Achievement Levels Committee, 3:00-3:30 p.m.; March 3—Executive Committee, 7:00-7:30 a.m., (open), 7:30-8:00 a.m., (closed); Full Board, 8:15-9:45 a.m., (open); Subject Area Committee #2, 9:45-11:00 a.m., (closed); Reporting and Dissemination Committee, 9:45-11:00 a.m. (open); Design and Methodology Committee, 9:45-11:00 a.m., (open); Full Board 11:15 a.m.-12:00 noon, (open), 12:00-1:15 p.m., (closed); and 1:15-4:00 p.m., (open).

March 4—Nominations Committee, 7:30-8:30 a.m., (open); Full Board, 8:30 a.m.—adjournment, approximately, 12:00 noon, (open).

LOCATION: Sheraton Waikiki Hotel, 225 Kalakaua Avenue, Honolulu, Hawaii.

FOR FURTHER INFORMATION CONTACT: Mary Ann Wilmer, Operations Officer, National Assessment Governing Board, Suite 825, 800 North Capitol Street, NW, Washington, D.C., 20002-4233, Telephone: (202) 357-6938.

SUPPLEMENTARY INFORMATION: The National Assessment Governing Board is established under section 412 of the National Education Statistics Act of 1994 (Title IV of the Improving America's Schools Act of 1994) (Pub. L. 103-382).

The Board established to formulate policy guidelines for the National Assessment of Educational Progress. The Board is responsible for selecting subject areas to be assessed, developing assessment objectives, identifying appropriate achievement goals for each grade and subject tested, and establishing standards and procedures for interstate and national comparisons. Under P.L. 105-78, the national Assessment Governing Board is also granted exclusive authority over developing the Voluntary National Tests pursuant to contact number RJ9753001.

On Thursday, March 2, there will be meeting of two committees of the Governing Board. Subject Area Committee #1 will meet in partially closed session. From 1:30-3:30 p.m. the Committee will meet in open session to discuss the NAEP Foreign Language framework development project. The Committee will meet in closed session from 2:30-3:00 p.m. to review proposed test items for the Voluntary National Test (VNT) in 4th grade reading. The discussion will reference specific items for the assessment, the disclosure of which might significantly frustrate implementation of the VNT. This meeting must be closed to the public because reference may be made to data which may be misinterpreted, incorrect, or incomplete. Premature disclosure of this data might significantly frustrate implementation of a proposed agency action. Such matters are protected by exemption 9(B) of section 553b(c) of Title 5 U.S.C.

The Achievement Levels Committee will meet in open session from 1:30-3:00 p.m. The agenda items for this meeting include discussion of a background paper on standard setting on the Voluntary National Tests; a briefing on the study of the alignment of the achievement level for NAEP with the VNT; and a briefing on the preliminary report on the special study of achievement levels.

Subject Area Committee #1 and the Achievement Levels Committee will meet in joint session from 3:00-3:30 p.m. to discuss the proposed achievement levels descriptions for grade 12 students' performance in foreign language.

On March 3, the Executive Committee will meet in partially closed session. In open session, 7:00-7:20 a.m., the Committee will hear an update on Voluntary National Test activities—the contract, and use of incentives in research studies; NAEP/NAGB reauthorization, incentives for participation in NAEP; and the NCES initiative to coordinate research. The Committee will meet in closed session from 7:30-8:00 a.m. to hear an update on the development of cost estimates for NAEP (RFPs) and other contract initiatives. This portion of the meeting must be conducted in closed session because public disclosure of this information would likely have an adverse financial effect on the NAEP program. The discussion of this information would be likely to significantly frustrate implementation of a proposed agency action if conducted in open session. Such matters are protected by exemption 9(B) of Section 552b(c) of Title 5 U.S.C.

The full Board will convene in open session beginning at 8:15 a.m. In addition to the approval of the agenda and the swearing-in of a new board member, this session includes a report from the Executive Director, and an update on the NAEP project.

Subject Area Committee #2 will meet in closed session from 9:45-11:00 a.m. From 9:45-10:30 a.m., the Committee will discuss the draft RFP for the NAEP 2004 math assessment. This portion of the meeting must be conducted in closed session because public disclosure of this information would likely have an adverse financial effect on the NAEP program. The discussion of this information would be likely to significantly frustrate implementation of a proposed agency action if conducted in open session. Such matters are protected by exemption 9(B) of section 552b(c) of Title 5 U.S.C.

In closed session, from 10:30-11:00 a.m., Subject Area Committee #2 will discuss proposed test items for the Voluntary National Test (VNT) in 8th grade mathematics. The discussion will reference specific items for the assessment, the disclosure of which might significantly frustrate implementation of the VNT. This meeting must be closed to the public because reference may be made to data which may be misinterpreted, incorrect, or incomplete. Premature disclosure of this data might significantly frustrate implementation of a proposed agency action. Such matters are protected by exemption 9(B) of 552b(c) of Title 5 U.S.C.

There will be open meetings of the Reporting and Dissemination Committee and the Design and Methodology Committee from 9:45-11:00 a.m. Agenda items for the Reporting and Dissemination Committee include review of plans for the release of NEAP reports; reporting issues for Math 2000; and an update on the development of score reporting materials for the Voluntary National Tests. The Design and Methodology Committee will hear a briefing on plans for replenishing Voluntary National Test items and test forms; and a briefing on analysis options on minimizing non-comparability of trends in State NAEP for science and math.

The full Board will reconvene in partially closed session from 11:15 a.m. to 3:30 p.m. In open session, 11:15 a.m.-12:00 noon, the Board will hear an update on the achievement level reporting process. The Board will then meet in closed session from 12:00-1:15 p.m. to hear a briefing on the NAEP Civics Trend Report 1988-1998. The report will include references to specific items from the assessments that have not been released to the public. This portion of the meeting must be closed because reference may be made to data that may be misinterpreted, incorrect, or incomplete. Premature disclosure of these data might significantly frustrate implementation of a proposed agency action. Such matters are protected by exemption 9(B) of section 552b(c) of Title 5 U.S.C.

From 1:15-4:00 p.m. the board will meet in open session. Agenda items for this portion of the meeting include an update and discussion on NAEP/NAGB and VNT reauthorization issues; discussion of issues concerning schools participation in NAEP; an update on the NAEP Foreign Language Framework; and review of the contract with AIR for the Voluntary National Tests.

On Saturday, March 4 the Nominations Committee will meet in open session from 7:30-8:30 a.m. The Committee will discuss and approve the plan for review, rating, and compiling the list of recommended nominees to fill potential Board vacancies; consider the process for soliciting nominations for additional nominees.

Also, on March 4, the full Board will meet in open session from 8:30 a.m. until adjournment, approximately 12:00 noon. The Board will hear a presentation on parents and assessment literacy, and continue discussion on issues concerning schools participation in NAEP. This meeting of the National Assessment Governing Board will conclude with the presentation of committee reports and Board actions.

A summary of the activities of the closed, partially closed sessions, and other related matters which are informative to the public and consistent with the policy of the section 5 U.S.C. 552b(c), will be available to the public within 14 days after the meeting. Records are kept of all Board proceedings and are available for public inspection at the U.S. Department of Education, National Assessment Governing Board, Suite #825, 800 North Capitol Street, NW, Washington, D.C., from 8:30 a.m. to 5:00 p.m.

Roy Truby,
Executive Director, National Assessment Governing Board.

[FR Doc. 00-4189 Filed 2-22-00; 8:45 am]

BILLING CODE 4001-01-M